DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Fastener Quality Act Requirements.

Form Number(s): None.

OMB Approval Number: 0693-0015.

Type of Review: Regular submission.

Burden Hours: 22.

Number of Respondents: 2.

Average Hours Per Response: 1.5 hours per accreditation body and 20 hours per petitioner.

Needs and Uses: The National Institute of Standards and Technology (NIST), a component of the Technology Administration reporting to the Under Secretary for Technology, under the Fastener Quality Act (the Act) (Pub. L. 101-592 amended by Pub. L. 104-113, Pub. L. 105-234 and Pub. L. 106-34) is required to accept an affirmation from laboratory accreditation bodies and quality system registrar accreditation bodies that they meet International Standardization Organization/International Electrotechnical Commission (ISO/IEC) 17011. An organization having made such an affirmation to NIST may accredit either fastener testing laboratories or quality system registrars for fastener manufacturers in accordance with the applicable provisions of the Fastener Quality Act. This information allows NIST to compile a list of accreditation bodies able to provide accreditations meeting all the requirements of the Act and of the procedures, 15 CFR Part 280.

Section 10 of the Act requires NIST to accept petitions from persons publishing a document setting forth guidance or requirements providing equal or greater rigor and reliability compared to ISO/IEC Guide 17025, ISO/IEC 17011 or ISO/IEC Guide 62. Petitions to consider a document as an alternative to one of the ISO/IEC documents may be accepted by the Director of NIST for use provided the document provides equal or greater rigor and reliability as compared to the ISO/IEC document.

Affected Public: Business or other for-profit organizations.

Frequency: On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806 or Jasmeet_K._Seehra@omb.eop.gov.

Dated: August 29, 2006.
Gwellnar Banks,
Management Analyst, Office of the Chief Information Officer.

[FR Doc. 06-7390 Filed 9-1-06; 8:45 am]

BILLING CODE 3510-13-P